DEPARTMENT OF ENERGY

Federal Energy Regulatory Commission

[Docket No. RP98-206-008]

Atlanta Gas Light Company; Notice of Petition for Clarification and Limited Waivers

June 3, 2002.

Take notice that on May 23, 2002, pursuant to Rule 207(a)(5) of the Commission's Rules of Practice and Procedure, 18 CFR 385.207(a)(5), ACN Energy, Energy Ameria, Infinite Energy, New Power Company, SCANA Energy Marketing, Inc., and Southstar Energy Services dba Georgia Natural Gas (collectively, the Indicated Marketers) petition the Commission to grant clarifications, or if necessary limited waivers, to reassure the Georgia Public Service Commission (GPSC) about the inclusion of “ANR Services”—an upstream storage service (and relate transportation) critical to meeting temperature-sensitive retail load—under the GPSC-jurisdictional Park and Redelivery Service Tariff (PRS Tariff) to Atlantic Gas Light Company (AGL).

Indicated Marketers states that the object of this pleading is to ensure that, under Georgia's recent retail gas restructuring, marketers who are now serving Georgia's retail load, in place of AGL, have the same level of access to the ANR Services so critical to serving retail load that AGL had prior to restructuring. Three years ago, AGL similarly requested clarification or waivers to, inter alia, include ANR Services under an Incremental Bundled Storage Service (IBSS) Tariff so that the ANR Services could be utilized by the marketers as AGL and previously utilized those services. The Commission granted AGL's request, but the IBSS Tariff has now expired. The GPSC seeks to replicate IBSS's functional purpose by having ANR Services included under the PRS Tariff in place of the IBSS Tariff. The requested clarification or waivers will permit the GPSC to do so.

In order to make ANR Services storage injections now, to serve temperature sensitive load this coming winter, the Indicated Marketers request Commission action on this petition by July 1, 2002.

Any person desiring to protest said filing should file a protest with the Federal Energy Regulatory Commission, 888 First Street, NE, Washington, DC 20426, in accordance with Section 385.211 of the Commission's Rules and Regulations. All such protests must be filed on or before June 10, 2002. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-14421 Filed 6-7-02; 8:45 am]

BILLING CODE 6717-01-P